DEPARTMENT OF THE INTERIOR

Fish and Wildlife Service

Notice of Availability of the Record of Decision for the Final Comprehensive Conservation Plan and Environmental Impact Statement for Rocky Flats National Wildlife Refuge

AGENCY: Fish and Wildlife Service, Interior.

ACTION: Notice of availability.

SUMMARY: The U.S. Fish and Wildlife Service (Service) announces that the Record of Decision (ROD) for the Final Comprehensive Conservation Plan and Environmental Impact Statement (Final CCP/EIS) for the Rocky Flats National Wildlife Refuge (Refuge) is available. This Final CCP/EIS was prepared pursuant to the National Wildlife Refuge System Administration Act, as amended, and the National Environmental Policy Act (NEPA). The Final CCP/EIS describes the Service's proposal for management of the Refuge for 15 years, beginning at Refuge establishment, which is anticipated to occur sometime between 2006 and 2008. Four alternatives for management of the Refuge were considered in the CCP/EIS and are described in the ROD. The Service adopted and plans to implement Alternative B—Wildlife, Habitat, and Public Use.

FOR FURTHER INFORMATION CONTACT: For further information, or to request a copy of the Final CCP or the ROD, contact Laurie Shannon, Planning Team Leader, Rocky Flats National Wildlife Refuge, Rocky Mountain Arsenal—Building 121, Commerce City, Colorado, 80222. Additionally, copies of the Final CCP, ROD, and the Final CCP/EIS may be downloaded from the project Web site: http://rockyflats.fws.gov. These materials will be available for reading at the following main branch libraries: Arvada Public Library, Boulder Public Library, Daniels Library, Golden Public Library, Westminster Public Library, Front Range Community College, Louisville Public Library, Thornton Public Library, and Mamie Dowd Eisenhower Library in Broomfield.

SUPPLEMENTARY INFORMATION: The 6,240-acre Rocky Flats National Wildlife Refuge site is in northern Jefferson County and southern Boulder County, Colorado. The Rocky Flats site was used as a nuclear weapons production facility until 1992, when the mission of Rocky Flats changed to environmental cleanup and closure. The majority of the site has remained undisturbed for over 50 years and provides habitat for many wildlife species, including the federally threatened Preble's meadow jumping mouse, and several rare plant communities. Under the Rocky Flats National Wildlife Refuge Act of 2001, most of the site will become a National Wildlife Refuge once cleanup and closure has been completed. The Refuge will likely be established sometime between 2006 and 2008.

The National Wildlife System Administration Act of 1966, as amended by the National Wildlife Refuge Improvement Act of 1997, requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation. The CCP is intended to be a dynamic document that will be adaptable to changing resource and management conditions.

The ROD provides the basis for the decision by the Service on the proposed management of the future Refuge. The Service adopted and plans to implement Alternative B—Wildlife, Habitat, and Public Use as described in the Final CCP/EIS to provide Refuge management direction for the first 15 years following the establishment of the Refuge. The Service identified Alternative B as the Preferred Alternative in the Final CCP/EIS. The Service believes that Alternative B best satisfies the mission of the Service and the National Wildlife Refuge System, the direction of the Refuge Act, and the long-term needs of the habitats and wildlife at Rocky Flats.

Alternative B, the Service's selected alternative, emphasizes wildlife and habitat conservation with a moderate amount of wildlife-dependent public use. Refuge-wide habitat conservation would include management of native plant communities, weeds, restoration tools, removal and revegetation of unused roads and stream crossings, management of deer and elk populations, prairie dogs, and protection of Preble's meadow jumping mouse habitat. Visitor use facilities would include about 16 miles of trails, a seasonally staffed visitor contact station, trailheads with parking, and developed overlooks. Most of the trails would use existing roads and public access would be by foot, bicycle, horse, or car. A limited public hunting program would be developed.

Public comments were requested, considered, and incorporated throughout the planning process in numerous ways. Public outreach has included public open houses, public hearings, individual outreach activities, planning update mailings, and Federal Register notices. Three previous notices were published in the Federal Register concerning this CCP/EIS (67 FR 54667, August 23, 2002; 69 FR 7789, February 19, 2004, and 69 FR 75334, December 16, 2004).

Dated: February 11, 2005.
Ralph O. Morgenweck,
Regional Director, Region 6, Denver, CO.

[FR Doc. 05-7669 Filed 4-15-05; 8:45 am]

BILLING CODE 4310-55-P